DEPARTMENT OF COMMERCE

National Oceanic and Atmospheric Administration

50 CFR Part 660

[I.D. 102903C]

RIN 0648-AP42

Fisheries Off West Coast States and in the Western Pacific; Highly Migratory Species; Correction

AGENCY: National Marine Fisheries Service (NMFS), National Oceanic and Atmospheric Administration (NOAA), Commerce.

ACTION: Correction to notice of availability of a fishery management plan.

SUMMARY: This document corrects the phone number for the Pacific Fishery Management Council (Council) in the notice of availability of the Highly Migratory Species Fishery Management Plan (FMP), which was published November 6, 2003.

SUPPLEMENTARY INFORMATION:

Background

The notice of availability of the Highly Migratory Species Fishery Management Plan was published in the Federal Register on November 6, 2003 (68 FR 62763), and requested comments by January 5, 2004. The interested public was directed to obtain a copy of the FMP) from the Council, but the Council's former phone number was cited, not its current phone number.

Correction

In the FOR FURTHER INFORMATION CONTACT section of the Notice of Availability FR Doc. 03-27994, in the issue of Thursday, November 6, 2003, (68 FR 62763), make the following correction.

On page 62764, in the first column under FOR FURTHER INFORMATION CONTACT, delete the phone number for the Pacific Fishery Management Council and replace it with the following phone number:“503-820-2280”.

Authority: 16 U.S.C. 1801 et. seq.

Dated: November 24, 2003.
Bruce C. Morehead,
Acting Director, Office of Sustainable Fisheries, National Marine Fisheries Service.

[FR Doc. 03-29830 Filed 11-28-03; 8:45 am]

BILLING CODE 3510-22-S